OFFICE OF PERSONNEL MANAGEMENT

Submission for Renewal: Information Collection 3206-0150; Fingerprint Chart Standard Form 87 (SF 87)

AGENCY: U.S. Office of Personnel Management.

ACTION: 60-Day Notice and request for comments.

SUMMARY: Federal Investigative Services (FIS), U. S. Office of Personnel Management (OPM) offers the general public and other federal agencies the opportunity to comment on an expiring information collection request (ICR), Office of Management and Budget (OMB) Control No. 3206-0150, Fingerprint Chart Standard Form 87 (SF 87). As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until January 28, 2013. This process is conducted in accordance with 5 CFR 1320.1.

ADDRESSES: Interested persons are invited to submit written comments on the proposed information collection to the Federal Investigative Services, U.S. Office of Personnel Management, 1900 E. Street NW., Washington, DC 20415, Attention: Donna McLeod or sent via electronic mail to FISFormsComments@opm.gov.

FOR FURTHER INFORMATION CONTACT: A copy of this ICR, with applicable supporting documentation, may be obtained by contacting the Federal Investigative Services, U.S. Office of Personnel Management, 1900 E. Street NW., Washington, DC 20415, Attention: Michele DeMarion or sent via electronic mail to FISFormsComments@opm.gov.

SUPPLEMENTARY INFORMATION: The SF 87 is a fingerprint card, which is utilized to conduct a national criminal history check, which is a component of the background investigation. The SF 87 is completed by applicants who are under consideration for Federal or Federal contract employment, or continued such employment, and by persons seeking long-term access to Federal facilities and systems. The SF 87 fingerprint chart is used in background investigations to establish that such persons are eligible for logical and physical access to Government facilities and systems; suitable or fit to perform work for, on behalf of, the Federal Government; suitable for employment or retention in a public trust position, suitable for employment or retention in a national security position, and/or eligible for access to classified national security information. The SF 87 form is only utilized when a hardcopy fingerprint chart must be obtained, as opposed to the electronic collection of fingerprints. Modifications to the SF 87 include the addition of three blocks, Submitting Office Number (SON), Security Office Identifier (SOI) and Intra-Government Payment and Collection Code (IPAC) and the removal of the printed ORI number, USOPMOOOZ-FIPC Boyer, PA. The addition of the SON, SOI and IPAC blocks support billing and processing enhancements. The printed ORI number is no longer necessary because SF 87 forms are converted to images and transmitted to the FBI electronically.

Because OPM is eliminating the printed ORI number, a separate collection that does not have an ORI number, the SF 87A is redundant. Accordingly, OPM is eliminating the SF 87A form.

Due to the SF 87 form's small size and the fact that it may be maintained in multiple systems of records, it does not list all potentially applicable routine uses under the Privacy Act. Accordingly 5 U.S.C. 552a(e)(3)(C) requires that an agency issuing the SF 87 form must also give the subject a copy of the routine uses for the applicable system of records.

It is estimated that 210,533 SF 87 forms are provided to individuals annually. The SF 87 takes approximately 5 minutes to complete. The estimated annual burden is 17,544 hours.

The 2009 OMB Terms of Clearance required an accurate reflection of the number of people who incur a cost for submitting their fingerprints to federal agencies and the total cost per annum. Calculations derived from Federal agency survey data and OPM data estimated that, at a maximum, 52,633 forms are submitted to federal agencies annually by individuals, who may incur a financial burden to obtain fingerprints at local police departments, when security offices are unable to conduct the fingerprinting. The estimated individual financial burden is $17.00. The estimated maximum annual financial burden is $894,765.

U.S. Office of Personnel Management.
John Berry,
Director.

[FR Doc. 2012-28735 Filed 11-26-12; 8:45 am]

BILLING CODE 6325-53P